DEPARTMENT OF COMMERCE

National Oceanic and Atmospheric Administration

[RTID 0648-XA712]

Pacific Fishery Management Council; Public Meeting

AGENCY: National Marine Fisheries Service (NMFS), National Oceanic and Atmospheric Administration (NOAA), Commerce.

ACTION: Notice; public meeting.

SUMMARY: The Pacific Fishery Management Council's (Pacific Council) Ad Hoc Groundfish Electronic Monitoring Policy Advisory Committee and Technical Advisory Committee (Committees) will hold three online meetings, which are open to the public.

DATES: The meetings will be held Wednesday, January 20, 2021, from 9 a.m. to 4 p.m.; Thursday, January 21, 2021, from 9 a.m. to 12 p.m.; and Thursday, February 25, 2021, from 9 a.m. to 4 p.m., Pacific Standard Time, or until business for each day is completed.

ADDRESSES: These meetings will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance

Council address: Pacific Fishery Management Council, 7700 NE Ambassador Place, Suite 101, Portland, OR 97220-1384.

FOR FURTHER INFORMATION CONTACT: Brett Wiedoff, Staff Officer, Pacific Council; Brett.L.Wiedoff@noaa.gov; telephone: (503) 820-2424.

SUPPLEMENTARY INFORMATION: The purpose of these meetings is to discuss materials and develop recommendations that are scheduled to be considered during the March 2021 Pacific Council meeting. Specifically, the Committees will discuss recommendations for further development of the draft electronic monitoring (EM) guidance documents and EM provider manual for West Coast groundfish fisheries. The Committees may also discuss other items on the Pacific Council's March agenda, particularly administrative matters.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for auxiliary aids should be directed to Mr. Kris Kleinschmidt at (503) 820-2412 at least 10 business days prior to the meeting date.

Authority: 16 U.S.C. 1801 et seq.

Dated: December 17, 2020.
Rey Israel Marquez,
Acting Deputy Director, Office of Sustainable Fisheries, National Marine Fisheries Service.

[FR Doc. 2020-28296 Filed 12-22-20; 8:45 am]

BILLING CODE 3510-22-P